DEPARTMENT OF THE INTERIOR

Bureau of Land Management

[CO-930; COC-60653]

Notice of Meeting on Proposed Withdrawal; Spanish Peaks Planning Area; Colorado

June 20, 2000.

AGENCY: Bureau of Land Management, Interior.

ACTION: Notice of public meeting.

SUMMARY: This notice sets forth the schedule and agenda for a forthcoming meeting on the Forest Service withdrawal application for the Spanish Peaks Planning Area for the protection of natural resources. This meeting will provide the opportunity for public involvement in this proposed action as required by regulation. All comments will be considered when a final determination is made on whether this land should be withdrawn.

DATES: Meeting will be held on September 12, 2000, at 7:00 p.m. All comments or requests to be heard should be received by close of business on September 7, 2000, at the Colorado State Office.

ADDRESSES: The meeting will be held at the Walsenburg Community Center, Walsenburg, Colorado, 81089.

FOR FURTHER INFORMATION CONTACT: Doris E. Chelius, BLM Colorado State Office, (303) 239-3706.

SUPPLEMENTARY INFORMATION: The Notice of Proposed Withdrawal for the Spanish Peaks Planning Area which was published in the Federal Register on June 20, 1997, (62 FR 33675), is hereby modified to schedule a public meeting as provided by 43 U.S.C. 1714, and 43 CFR 2310.

This meeting will be open to all interested persons; those who desire to be heard in person and those who desire to submit written comments on this subject. All comments and requests to be heard should be submitted to the Colorado State Director, Bureau of Land Management, 2850 Youngfield Street, Lakewood, Colorado 80215-7093, by September 7, 2000.

Herbert K. Olson,
Acting Realty Officer.

[FR Doc. 00-16464 Filed 6-28-00; 8:45 am]

BILLING CODE 3410-11-P